DEPARTMENT OF TRANSPORTATION

Surface Transportation Board

[STB Docket No. AB-1043 (Sub-No. 1)]

Montreal, Maine & Atlantic Railway, Ltd.—Discontinuance of Service and Abandonment—In Aroostook and Penobscot Counties, ME

On February 25, 2010, Montreal, Maine & Atlantic Railway, Ltd. (MMA) filed with the Board an application ¹ for permission to abandon the following lines of railroad:

¹ The State of Maine, by and through its Department of Transportation, filed a motion to reject the application on March 11, 2010. The Board will address the motion in a separate decision.

(1) The Madawaska Subdivision, consisting of approximately 151 miles of line between milepost 109 near Millinocket and milepost 260 near Madawaska in Penobscot and Aroostook Counties, which traverses United States Postal Service ZIP Codes 04462, 04460, 04777, 04776, 04747, 04763, 04780, 04759, 04732, 04775, 04768, 04739, 04781, 04743, 04745, and 04756; ²

² MMA lists the stations on the lines it proposes to abandon in Exhibit 5 of its application. The Madawaska Subdivision includes the stations of Grindstone, Stacyville, Serman, Crystal, Belvedere, Island Falls, Dyer Brook, Oakfield, Smyrna Mills, Weeksboro, Howe Brook, St. Croix, Masardis, Levesque, Squa Pan, Ashland, Sheridan, Wrightville, Moody, Skerry, Portage, Nixon, Winterville, Eagle Lake Wallagrass, Soldier Point, Fort Kent, Frenchville, and Cleveland.

(2) The Presque Isle Subdivision, consisting of approximately 25.3 miles of line between milepost 0.0 near Squa Pan and milepost 25.3 near Presque Isle in Aroostook County, which traverses United States Postal Service ZIP Codes 04732, 04757, and 04769; ³

³ This line includes the stations of Squa Pan, Chapman, Mapleton, Skyway Jct., and Presque Isle.

(3) The Fort Fairfield Subdivision, consisting of approximately 10 miles of line between milepost 0.0 near Presque Isle and milepost 10.0 near Easton in Aroostook County, which traverses United States Postal Service ZIP Codes 04769, 04742, and 04740; ⁴

⁴ This line includes the stations of Presque Isle, Phair, and Easton.

(4) The Limestone Subdivision, consisting of approximately 29.85 miles of line between milepost 0.0 near Presque Isle and milepost 29.85 near Limestone in Aroostook County, which traverses United States Postal Service ZIP Codes 04769, 04736, 04742, and 04750; ⁵ and

⁵ This line includes the stations of Presque Isle, Industrial, Caribou, Macneil, Goodrich, and Limestone.

(5) The Houlton Subdivision, consisting of approximately 16.9 miles of line between milepost 0.0 near Oakfield and milepost 16.9 near Houlton in Aroostook County, which traverses United States Postal Service ZIP Codes 04763, 04761, and 04730.⁶

⁶ This line includes the stations of Oakfield, Ludlow, New Limerick, and Houlton.

The lines do not contain federally granted rights-of-way. Any documentation in MMA's possession will be made available promptly to those requesting it. MMA's entire case for abandonment was filed with the application.

The lines of railroad have appeared on the applicant's system diagram map since August 28, 2009.

The interest of railroad employees will be protected by the conditions set forth in Oregon Short Line R. Co.—Abandonment—Goshen, 360 I.C.C. 91 (1979).

Any interested person may file with the Surface Transportation Board written comments concerning the proposed abandonment or protests (including the protestant's entire opposition case), by April 12, 2010. All interested persons should be aware that, following any abandonment of rail service and salvage of the lines, the lines may be suitable for other public use, including interim trail use. Any request for a public use condition under 49 U.S.C. 10905 (49 CFR 1152.28) and any request for a trail use condition under 16 U.S.C. 1247(d) (49 CFR 1152.29) must be filed by April 12, 2010. Each trail use request must be accompanied by a $250 filing fee. See 49 CFR 1002.2(f)(27). Applicant's reply to any opposition statements and its response to trail use requests must be filed by April 26, 2010. See 49 CFR 1152.26(a). A final decision will be issued by June 15, 2010.

Persons opposing the proposed abandonment who wish to participate actively and fully in the process should file a protest. Persons who may oppose the abandonment but who do not wish to participate fully in the process by submitting verified statements of witnesses containing detailed evidence should file comments. Persons seeking information concerning the filing of protests should refer to 49 CFR 1152.25. Persons interested only in seeking public use or trail use conditions should also file comments.

In addition, a commenting party or protestant may provide: (i) An offer of financial assistance (OFA) for continued rail service, pursuant to 49 U.S.C. 10904 (due 120 days after the application is filed or 10 days after the application is granted by the Board, whichever occurs sooner); (ii) recommended provisions for protection of the interests of employees; (iii) a request for a public use condition under 49 U.S.C. 10905; and (iv) a statement pertaining to prospective use of the right-of-way for interim trail use and rail banking under 16 U.S.C. 1247(d) and 49 CFR 1152.29.

Written comments and protests, including all requests for public use and trail use conditions, must indicate the proceeding designation STB Docket No. AB-1043 (Sub-No. 1) and must be sent to: (1) Surface Transportation Board, 395 E Street, SW., Washington, DC 20423-0001, and (2) James E. Howard, One Thompson Square, Suite 201, Charlestown, MA 02129. The original and 10 copies of all comments or protests shall be filed with the Board with a certificate of service. Except as otherwise set forth in 49 CFR 1152, every document filed with the Board must be served on all parties to the abandonment proceeding. 49 CFR 1104.12(a).

The lines sought to be abandoned will be available for subsidy or sale for continued rail use, if the Board decides to permit the abandonment, in accordance with applicable laws and regulations (49 U.S.C. 10904 and 49 CFR 1152.27). Each OFA must be accompanied by a $1,500 filing fee. See 49 CFR 1002.2(f)(25). No subsidy arrangement approved under 49 U.S.C. 10904 shall remain in effect for more than 1 year unless otherwise mutually agreed by the parties (49 U.S.C. 10904(f)(4)(B)). Applicant will promptly provide upon request to each interested party an estimate of the subsidy and minimum purchase price required to keep the lines in operation. MMA's representative to whom inquiries may be made concerning sale or subsidy terms is set forth above.

Persons seeking further information concerning abandonment procedures may contact the Board's Office of Public Assistance, Governmental Affairs, and Compliance at (202) 245-0238 or refer to the full abandonment/discontinuance regulations at 49 CFR part 1152. Questions concerning environmental issues may be directed to SEA at (202) 245-0305. (Assistance for the hearing impaired is available through the Federal Information Relay Service (FIRS) at 1-800-877-8339.)

An Environmental Assessment (EA) (or Environmental Impact Statement (EIS), if necessary) prepared by SEA will be served upon all parties of record and upon any agencies or other persons who commented during its preparation. Any other persons who would like to obtain a copy of the EA (or EIS) may contact SEA. EAs in this type of abandonment proceeding normally will be made available within 33 days of the filing of the application. The deadline for submission of comments on the EA will generally be within 30 days of its service. The comments received will be addressed in the Board's decision. A supplemental EA or EIS may be issued where appropriate.

Board decisions and notices are available on our Web site at http://www.stb.dot.gov.

Decided: March 12, 2010.
By the Board, Rachel D. Campbell, Director, Office of Proceedings.
Kulunie L. Cannon,
Clearance Clerk.

[FR Doc. 2010-5795 Filed 3-16-10; 8:45 am]

BILLING CODE 4915-01-P